DEPARTMENT OF COMMERCE

Foreign-Trade Zones Board

[B-24-2023]

Foreign-Trade Zone (FTZ) 1; Authorization of Production Activity; Jos. H Lowenstein & Sons, Inc.; (Dyestuff Chemicals for Hair, Fur and, Leather); Brooklyn, New York

On March 29, 2023, the City of New York, grantee of FTZ 1, submitted a notification of proposed production activity to the FTZ Board on behalf of Jos. H Lowenstein & Sons, Inc., within Subzone 1E, in Brooklyn, New York.

The notification was processed in accordance with the regulations of the FTZ Board (15 CFR part 400), including notice in the Federal Register inviting public comment (88 FR 20853-20855, April 7, 2023). On July 27, 2023, the applicant was notified of the FTZ Board's decision that no further review of the activity is warranted at this time. The production activity described in the notification was authorized, subject to the FTZ Act and the FTZ Board's regulations, including section 400.14.

Dated: July 27, 2023.
Elizabeth Whiteman,
Executive Secretary.

[FR Doc. 2023-16270 Filed 7-31-23; 8:45 am]

BILLING CODE 3510-DS-P